DEPARTMENT OF ENERGY

Federal Energy Regulatory Commission

Combined Notice of Filings #1

Take notice that the Commission received the following electric corporate filings:

Docket Numbers: EC25-5-000.

Applicants: CPV Maryland, LLC, CPV Shore, LLC.

Description: Joint Application for Authorization under Section 203 of the Federal Power Act of CPV Maryland, LLC, et al.

Filed Date: 10/11/24.

Accession Number: 20241011-5213.

Comment Date: 5 pm ET 11/1/24.

Docket Numbers: EC25-6-000.

Applicants: Interstate Power and Light Company, Duane Arnold Solar II, LLC.

Description: Joint Application for Authorization Under Section 203 of the Federal Power Act of Interstate Power and Light Company, LLC, et al.

Filed Date: 10/11/24.

Accession Number: 20241011-5216.

Comment Date: 5 pm ET 11/1/24.

Docket Numbers: EC25-7-000.

Applicants: Basin Creek Equity Partners, L.L.C.

Description: Application for Authorization Under Section 203 of the Federal Power Act of Basin Creek Equity Partners, L.L.C.

Filed Date: 10/11/24.

Accession Number: 20241011-5219.

Comment Date: 5 pm ET 11/1/24.

Docket Numbers: EC25-8-000.

Applicants: Milford Gen Lead, LLC, Milford Wind Corridor Phase I, LLC.

Description: Joint Application for Authorization Under Section 203 of the Federal Power Act of Milford Gen Lead, LLC, et al.

Filed Date: 10/15/24.

Accession Number: 20241015-5551.

Comment Date: 5 pm ET 11/5/24.

Take notice that the Commission received the following exempt wholesale generator filings:

Docket Numbers: EG25-10-000.

Applicants: Illinois Winds LLC.

Description: Illinois Winds LLC submits Notice of Self-Certification of Exempt Wholesale Generator Status.

Filed Date: 10/16/24.

Accession Number: 20241016-5111.

Comment Date: 5 pm ET 11/6/24.

Take notice that the Commission received the following electric rate filings:

Docket Numbers: ER10-1123-012; ER10-1119-010.

Applicants: Central Illinois Public Service Company, Union Electric Company.

Description: Notice of Change in Status of Union Electric et al.

Filed Date: 10/11/24.

Accession Number: 20241011-5221.

Comment Date: 5 pm ET 11/1/24.

Docket Numbers: ER10-2783-022; ER10-2960-018; ER10-2969-022; ER21-2423-010; ER21-2424-010; ER22-1662-005.

Applicants: GB II New York LLC, Generation Bridge M&M Holdings, LLC, Generation Bridge Connecticut Holdings, LLC, Oswego Harbor Power LLC, Astoria Generating Company, L.P., Arthur Kill Power LLC.

Description: Notice of Non-Material Change in Status of Arthur Kill Power LLC et al.

Filed Date: 10/16/24.

Accession Number: 20241016-5098.

Comment Date: 5 pm ET 11/6/24.

Docket Numbers: ER18-1106-004.

Applicants: Kestrel Acquisition, LLC.

Description: Response to 09/13/2024 Updated Triennial Market Power Analysis for Northeast Region of Kestrel Acquisition, LLC.

Filed Date: 10/15/24.

Accession Number: 20241015-5553.

Comment Date: 5 pm ET 11/5/24.

Docket Numbers: ER25-112-000.

Applicants: Duke Energy Carolinas, LLC.

Description: § 205(d) Rate Filing: DEC-DEC Provisional Interconnection Service Study Agreement to be effective 10/11/2024.

Filed Date: 10/15/24.

Accession Number: 20241015-5433.

Comment Date: 5 pm ET 11/5/24.

Docket Numbers: ER25-113-000.

Applicants: San Diego Gas & Electric.

Description: Informational Filing of 2024 Formula Rate Annual Update under Appendix X of San Diego Gas & Electric Company.

Filed Date: 10/15/24.

Accession Number: 20241015-5547.

Comment Date: 5 pm ET 11/5/24.

Docket Numbers: ER25-114-000.

Applicants: San Diego Gas & Electric.

Description: Informational Filing of 2024 Formula Rate Annual Update under Appendix XII of San Diego Gas & Electric Company.

Filed Date: 10/15/24.

Accession Number: 20241015-5548.

Comment Date: 5 pm ET 11/5/24.

Docket Numbers: ER25-115-000.

Applicants: Midcontinent Independent System Operator, Inc.

Description: § 205(d) Rate Filing: 2024-10-16_SA 3642 Termination of ATC-Onion River Solar E&P (J1153) to be effective 10/17/2024.

Filed Date: 10/16/24.

Accession Number: 20241016-5099.

Comment Date: 5 pm ET 11/6/24.

Docket Numbers: ER25-116-000.

Applicants: CPV Maryland, LLC, CPV Shore, LLC.

Description: Request for Waiver and Expedited Action of CPV Maryland, LLC, et. al.

Filed Date: 10/11/24.

Accession Number: 20241011-5222.

Comment Date: 5 pm ET 11/1/24.

Docket Numbers: ER25-117-000.

Applicants: Midcontinent Independent System Operator, Inc.

Description: § 205(d) Rate Filing: 2024-10-16_Refinements to the rules regarding Continuing Errors to be effective 12/16/2024.

Filed Date: 10/16/24.

Accession Number: 20241016-5138.

Comment Date: 5 pm ET 11/6/24.

Docket Numbers: ER25-119-000.

Applicants: Pelican Power LLC.

Description: § 205(d) Rate Filing: Normal filing 2024 Oct to be effective 10/17/2024.

Filed Date: 10/16/24.

Accession Number: 20241016-5140.

Comment Date: 5 pm ET 11/6/24.

Docket Numbers: ER25-120-000.

Applicants: Midcontinent Independent System Operator, Inc.

Description: § 205(d) Rate Filing: 2024-10-16_SA 4365 ATC-WPL GIA (J1746) to be effective 10/7/2024.

Filed Date: 10/16/24.

Accession Number: 20241016-5151.

Comment Date: 5 pm ET 11/6/24.

Docket Numbers: ER25-121-000.

Applicants: Alabama Power Company, Georgia Power Company, Mississippi Power Company.

Description: § 205(d) Rate Filing: Alabama Power Company submits tariff filing per 35.13(a)(2)(iii: PowerSouth NITSA Amendment (Add Uchee 115 kV DP-Remove Browns Uchee 44 kV DP) to be effective 9/16/2024.

Filed Date: 10/16/24.

Accession Number: 20241016-5169.

Comment Date: 5 pm ET 11/6/24.

Docket Numbers: ER25-122-000.

Applicants: New York State Electric & Gas Corporation.

Description: § 205(d) Rate Filing: NYSEG-DCEC Attachment C Annual Update to be effective 1/1/2025.

Filed Date: 10/16/24.

Accession Number: 20241016-5204.

Comment Date: 5 pm ET 11/6/24.

Take notice that the Commission received the following electric securities filings:

Docket Numbers: ES25-8-000.

Applicants: The Narragansett Electric Company d/b/a Rhode Island Energy.

Description: Application Under Section 204 of the Federal Power Act for Authorization to Issue Securities of The Narragansett Electric Company.

Filed Date: 10/11/24.

Accession Number: 20241011-5215.

Comment Date: 5 pm ET 11/1/24.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: https://www.ferc.gov/docs-filing/efiling/filing-req.pdf. For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 16, 2024.
Debbie-Anne A. Reese,
Secretary.

[FR Doc. 2024-24479 Filed 10-22-24; 8:45 am]

BILLING CODE 6717-01-P